SOCIAL SECURITY ADMINISTRATION

Program: Cooperative Agreements for Homeless Outreach Projects and Evaluation (HOPE); Program Announcement No. SSA-OPDR-03-02

AGENCY: Social Security Administration.

ACTION: Announcement of the availability of cooperative agreement funds for fiscal year 2003 and request for applications.

SUMMARY: The Social Security Administration requests applications for cooperative agreement funding to support projects that provide targeted outreach, supportive services, and benefit application assistance to individuals who are chronically homeless.

DATES: The closing date for receipt of cooperative agreement applications under this announcement is November 25, 2003. Section VI of this announcement contains instructions for submitting applications under this announcement.

Prospective applicants are also asked to submit, preferably by October 16, 2003, a fax, post card, letter, or e-mail of intent that includes (1) the program announcement number (SSA-OPDR-03-02) and title (Homeless Outreach Projects and Evaluation); (2) the name of the agency or organization that is applying; and (3) the name, mailing address, e-mail address, telephone number, and fax number for the organization's contact person.

The notice of intent should be (1) e-mailed to Homeless.Outreach@ssa.gov, using “HOPE—Notice of Intent” in the subject line; (2) faxed to (410) 597-0825, to the attention of the HOPE Project Team; or (3) mailed to Social Security Administration, Office of Program Development and Research, Office of Program Development, 128 Altmeyer Building; 6401 Security Boulevard, Baltimore, Maryland, 21235-6401, Attention: HOPE Project Team.

The notice of intent is not required, is not binding, and does not enter into the review process of a subsequent application. The purpose of the notice is to allow SSA staff to estimate the number of technical reviewers needed and to avoid potential conflicts of interest in the review.

ADDRESSES: All applications for funding under this announcement should be submitted via the new process that the Federal government has established for electronic submission of applications for grant and cooperative agreement funding.

FOR FURTHER INFORMATION CONTACT: Send questions about this announcement to the following Internet address: Homeless.Outreach@ssa.gov. When sending a question, use the program announcement number (SSA-OPDR-03-02) and the date of this announcement, September 26, 2003. Questions and answers will be posted to the “Outreach Initiatives” link on the Social Security Service to the Homeless Web site at: http://www.socialsecurity.gov/homelessness. The identity of questioners will not be revealed when questions and answers are posted on this Web site. All applicants are encouraged to review the Web site while developing their applications.

Although the Internet is the preferred method of communication, applicants who have questions about the program content of the application may also contact: Virginia McCaskey, Research Analyst, or Leola Brooks, Director, Office of Program Development. The phone number for Virginia McCaskey is (410) 965-3425, and the phone number for Leola Brooks is (410) 965-2219. Inquiries may also be faxed to (410) 597-0825, or mailed to: Social Security Administration, Office of Program Development and Research, Office of Program Development, 128 Altmeyer Building, 6401 Security Boulevard, Baltimore, Maryland 21235-6401, Attention: HOPE Project Team.

For general (non-programmatic) information—regarding submission of applications, contact: Phyllis Y. Smith, Grants Management Officer, Social Security Administration, Office of Acquisition and Grants, Grants Management Team, 1-E-4 Gwynn Oak Building, 1710 Gwynn Oak Avenue, Baltimore, MD 21207-5279, phyllis.y.smith@ssa.gov, phone (410) 965-9518.

Application Kit: Section VI of this announcement contains instructions for obtaining an application kit.

SUPPLEMENTARY INFORMATION: This overview of the HOPE projects is included to allow potential applicants to quickly learn the contents of this announcement, and to decide whether they are eligible to apply for the funding opportunity described. It follows the outline of the full text of the first three sections of the announcement.

Program Description: SSA is making cooperative agreement funding available to demonstrate methods to improve the quality of assistance that medical and social service providers give to homeless individuals who file claims for Social Security benefits. The projects are shaped by SSA knowledge about effective outreach practices, as well as evaluation data from previous outreach demonstration projects.

Awardees of cooperative agreement funding will be required to provide outreach, supportive services, and benefit application assistance to chronically homeless adults and/or children. The target population for these projects is homeless individuals who are members of under-served groups, which may include people with severe and persistent mental illness, HIV infection, limited English proficiency, multiple and co-occurring disorders, or cognitive impairments, as well as homeless veterans with disabilities.

Applicants may propose to establish presumptive disability screening procedures or pre-release procedures for institutionalized individuals with disabilities. Applicants may also propose to use project funding to improve their capacity to provide representative payment services to beneficiaries, strengthen their ability to assist disability claimants with filing electronic disability applications, or develop an employment intervention.

SSA will train staff of organizations that are awarded funding under this announcement. The focus of the training will be to improve participant knowledge about SSA's requirements for disability case processing. SSA will conduct an evaluation of projects, with a focus on the impact that training has on the quality of assistance provided to disability claimants by the grantee. SSA is particularly interested in achieving outcomes such as reduced processing time, and reduced denials for initial claims from individuals that would be eligible for benefits under SSA's rules.

Award Information: Congress appropriated $8 million in FY 2003, and directed SSA to use the appropriation to provide outreach to “homeless and under-served” populations. SSA intends to fund approximately 30 projects, with awards of up to $200,000 in the first year of project funding. Subject to the availability of additional appropriations, SSA plans to fund projects for four years, with requirements that awardees reduce their dependence on cooperative agreement funding in each year of the projects. Year 4 activities will consist only of follow-up data reporting. SSA has reserved a portion of the appropriation to evaluate the projects, and to provide training and technical assistance to grantees.

These projects are authorized by section 1110 of the Social Security Act, and will be funded with cooperative agreements, which anticipate substantial involvement of the government in project design and operation.

Eligibility Information: Public and private organizations, including non-profit, profit-making, and faith-based organizations, may apply for cooperative agreement funding made available under this announcement. Applicants must have existing expertise and capacity to conduct outreach activities to locate and engage homeless individuals; be able to provide or arrange for health care services; and be able to provide culturally competent services to all members of the target population, without regard to race, sex, religion, or disability.

Cooperative agreement funds are not to be used to cover costs that are reimbursable under an existing public or private program. Awardees are required to contribute a non-Federal match of project costs of at least 5% of the total project cost. The non-Federal share may be cash or in-kind (property or services).

Table of Contents

Section I. Program Description and Background

A. Introduction

B. Data on Homelessness

C. Background

1. Program Information

2. SSA Collaboration with other Federal Agencies and the Interagency Council on Homelessness

3. SSA Outreach

D. Project Goals and Objectives

E. Project Features

1. Use of Cooperative Agreement Funds

2. Training and Technical Assistance

3. Conferences

4. Meetings

Section II. Award Information

A. Statutory Authority and Catalog of Federal Domestic Assistance Number

B. Type of Awards

C. Number, Size, and Duration of Projects

D. Awardee Share of the Project Costs

Section III. The Application Process

A. Eligible Applicants

B. Targeted Population

C. Costs

Section IV. Program Requirements

A. General Requirements

B. Evaluation

1. Enrollment Guidelines

C. Data Collection

1. Data Elements

2. Privacy

3. Training Data

D. Reporting

E. Monitoring

F. Technical Assistance

Section V. Application Review Process and Evaluation Criteria

A. Application Process

B. Application Requirements

C. Review and Evaluation

D. Application Approval

E. Evaluation Criteria

1. Capability

2. Project Design

3. Resources and Management

Section VI. Instructions for Obtaining and Submitting an Application

A. Availability of Forms

B. Checklist for a Complete Application

C. Guidelines for Application Submission

Section I. Program Description and Background

A. Introduction

The Social Security Administration (SSA) is making cooperative agreement funding available to support projects that provide outreach, supportive services, and application assistance for Supplemental Security Income (SSI) and all forms of Social Security benefits to individuals who are chronically homeless. The cooperative agreement projects are part of a broad Federal strategy to end chronic homelessness. The projects will be designed to identify and remove barriers to the benefit application process by outreach and assistance to homeless individuals, particularly those who are members of “under-served” populations. Homeless under-served individuals include, but are not limited to, those who have difficulty accessing services due to a disabling impairment, such as mental illness or other cognitive impairment; individuals with limited English proficiency; persons in jails and institutions, persons with multiple impairments and co-occurring disorders, and persons who have symptomatic HIV infections. Homeless under-served individuals may also include veterans and children with disabilities.

Definitions of homelessness vary. For the purposes of defining the target population to be served by grantees in this project, homeless individuals are adults or children who lack permanent housing. Individuals are considered homeless if they live on the street, or other location not meant for habitation, such as an abandoned building or car; in a supervised facility such as a shelter; transitional or emergency housing; “doubled up”, i.e., living with a series of relatives or friends; or in an institution or correctional facility with no permanent address.

Further, this set of cooperative agreements will focus on individuals who are considered “chronically homeless,” defined as “an individual with a disability or multiple disabilities who has been homeless for at least one year or who has had multiple periods of homelessness in a multi-year period” (Interagency Council on Homelessness, 2003).

As an Agency, SSA is uniquely positioned through its network of over 1300 field offices to provide assistance to homeless individuals. For homeless individuals, who are either age 65 or older, blind or disabled, SSA plays a critical role in helping provide monthly benefit payments. These benefits can help homeless individuals to obtain housing, and also provide critical linkage to medical coverage.

For the purposes of this announcement, the word “claimant” is used to describe an individual who has applied for Social Security Benefits. The word “participant,” may be used to describe an individual who is enrolled in the project to receive services from the grantee. The word “applicant” refers to organizations that apply for cooperative agreement funding under this announcement.

B. Data on Homelessness

National estimates on homelessness indicate there are anywhere from 500,000-700,000 homeless individuals on any given night. In the 2000 census, the U.S. Census Bureau (Census) did not attempt to accurately enumerate homeless individuals. The Census published a report on the “Emergency and Transitional Shelter Population,” but cautions users of the data that the methodology allows only for identification of people who were in “non-conventional housing” at the time of the census count.¹ The census data does not provide an estimate of the numbers of homeless persons who are disabled or elderly.

¹ Smith, Annetta C. and Denise I. Smith, U.S. Census Bureau, Census Special Reports, Series CENSR/01-Emergency and Transitional Shelter Population: 2000, U.S. Government Printing Office, Washington, DC 20401.

The 1996 National Survey of Homeless Assistance Providers and Clients (NSHAPC), conducted by the Interagency Council on Homelessness (ICH), was designed to provide information about the providers of homeless assistance and the characteristics of homeless persons who use services. Of approximately 4,000 homeless individuals surveyed, 11 percent received Supplemental Security Income (SSI) benefits (see description in Section I. C.1).

Unfortunately, the survey methodology does not allow us to draw firm conclusions about numbers of homeless individuals who might qualify for retirement, survivors, or disability benefits or for SSI benefits; however, the survey does indicate that rates of chronic illness and serious physical and mental impairments are quite high among the homeless population. Forty-five percent of the homeless individuals surveyed reported having one or more chronic physical health conditions, while 39% report mental health problems.

An estimated 10 percent of the nation's homeless are considered “chronically homeless,” as defined in Section I.A.

C. Background

1. Program Information

SSA administers two programs that provide cash benefits: Retirement, Survivors, and Disability Insurance (RSDI) and Supplemental Security Income (SSI).

RSDI Benefits. RSDI benefits are based on worker contributions to the Social Security Trust fund. There are four general types of RSDI benefits: retirement, disability, family, and survivors benefits. Individuals may be eligible for benefits based on their own contributions to the Social Security Trust Fund, or based on contributions of a family member. The amount of the benefit is based on the amount of the insured worker's contributions. Disability benefits are often referred to as Social Security Disability Insurance, or SSDI, although this category of RSDI benefits also includes Disabled Widow(er)s Benefits and Childhood Disability Benefits. For that reason, this type of benefit will be referred to as “Social Security disability benefits” or “disability insurance benefits” in this announcement.

Individuals who are eligible for retirement benefits qualify for Medicare. So do individuals who receive disability insurance benefits, after a 24 month entitlement period. Coverage under Medicare Part A (hospital insurance) is automatic. Beneficiaries must pay a premium to be covered by Part B, which helps to pay for outpatient services, as well as certain medical supplies. Some beneficiaries may qualify for the State Medicaid program to pay their Medicare, Part B premium.

SSI. The SSI program is financed from general revenue funds of the U.S. Treasury and provides monthly benefit payments to aged, blind, and disabled people who have limited resources and income. The Federal government pays a Federal benefit rate (FBR). In 2003, the FBR for an individual is $552 per month and $829 per month for a couple. In addition, many States supplement the FBR; the supplementary benefit amounts and the categories of persons eligible for these benefits vary from State to State. In most states, SSI eligibility automatically results in eligibility for Medicaid; in a few states, individuals must file a separate application for Medicaid.

An individual or couple may have earned or unearned income and still may be eligible for the SSI program. Under numerous provisions, a certain amount of income is excluded in determining eligibility and computing the SSI benefit amount. People who live in a State that supplements the Federal payment may have higher amounts of income and still may qualify for some benefits.

To be eligible for SSI a person must reside in the U.S. or the Northern Mariana Islands and be a U.S. citizen or national of the United States, or an Alien if he or she meets the requirements of the laws for non-citizens that went into effect on August 22, 1996. In general, beginning August 22, 1996, most aliens must meet two requirements to be potentially eligible for SSI benefits:

• Be in a qualified alien category; and

• Meet a condition that allows qualified aliens to get SSI benefits.

Further information about SSI eligibility for non-citizens is available at http://www.socialsecurity.gov/pubs/11051.html.

Concurrent Eligibility. Some individuals may be eligible for benefits under both Social Security disability insurance and the SSI program (retirees and survivors may also receive some SSI supplement to their monthly benefit). Many individuals who receive Social Security disability benefits, who also have low incomes and limited assets, may qualify for Medicaid, or may qualify for their State Medicaid program to pay their Medicare premiums.

Disability Benefits. Approximately 2.5 million individuals applied for disability insurance and/or SSI disability benefits in SSA's fiscal year 2002. Social Security disability insurance and SSI disability payments are made to over nine million individuals with disabilities and their families.

The Social Security Act establishes a stringent standard for eligibility for benefits that applies to both SSI and disability insurance claimants. For individuals aged 18 or older, disability is defined as an inability to “engage in substantial gainful activity (SGA) by reason of any medically determinable physical or mental impairment(s) which can be expected to result in death, or which has lasted or can be expected to last for a continuous period of not less than 12 months.” SGA refers to earnings from work. The amount of earnings that constitutes SGA is increased annually. In 2003, the SGA amount is $800 per month for non-blind persons. The SGA amount for statutorily blind individuals for 2003 is $1,330 per month.

Individuals under the age of 18 may qualify for an SSI benefit based on disability. In order to be considered disabled, a child must have a medically determinable physical or mental impairment or combination of impairments that causes marked and severe functional limitations. The impairment(s) must last or be expected to last twelve months or more, or to result in death. A child may not be considered disabled if he or she has earnings considered to be SGA.

SSA works cooperatively with the States, who are responsible for making disability and blindness determinations through their Disability Determination Services (DDS) offices. SSA takes a detailed medical history from the claimant during the initial interview and sends that information to the DDS. The DDS then secures medical records and, if needed, schedules an additional medical examination, called a “consultative examination” (CE). Based upon this evidence, and in combination with other evidence, such as vocational factors (age, education, and work history) a disability or blindness determination is made.

2. SSA Collaboration With Other Federal Agencies and the Interagency Council on Homelessness

With his fiscal year 2003 budget, President George W. Bush announced an initiative to end chronic homelessness in ten years. He reactivated the Interagency Council on Homelessness (ICH), which has developed a comprehensive plan to achieve the President's vision.² The Executive Director of the ICH, Philip Mangano, describes the effort, “In collaboration, a number of Federal agencies are creating innovative initiatives that will bring change in the lives of those who are homeless and at risk of homelessness and change on the streets of our country.” The outreach projects funded under this announcement are part of this comprehensive Federal strategy to end chronic homelessness.

² The mission of the Interagency Council on Homelessness and links to member agencies are found on the ICH Web site at: http://www.ich.gov/.

SSA is an ICH member agency, and participates in collaborations with other Federal agencies to combat homelessness. SSA developed a plan to improve services to individuals experiencing homelessness, and has established a workgroup to oversee implementation of the plan, which includes a Web site with information about SSA programs, as well as links to other resources (http://www.socialsecurity.gov/homelessness/).

3. SSA Outreach

SSA conducts outreach and education to the general public and social service providers regarding available benefits. These services are primarily developed and provided by local field offices (FO). Current outreach activities include:

• Establishing ongoing relationships with organization, including shelters, churches, and county welfare departments to provide immediate assistance and improve access to Social Security's programs;

• Working with the Veteran's Administration to assist homeless veterans filing claims;

• Visiting homeless shelters, social service agencies, and hospitals to take claims;

• Distributing public information materials to agencies, and maintaining resource information about those agencies;

• Training community service providers;

• Establishing state-wide memorandums of understanding (MOU) for SSI pre-release applications from prisons; and

• Developing liaisons with new service providers.

SSA also provides information about Social Security and SSI benefits to national advocacy organizations for dissemination to affiliates, professionals and consumers. SSA prepares and releases a Monthly Information Package to all FOs that contains print media products for placement with local media, and a monthly newsletter, the Social Security Courier, which is sent to advocacy groups, nonprofit organizations, and intergovernmental entities. These products contain information on programs and issues relevant to homeless populations.

SSI Outreach Projects. In the 1990's, Congress provided funding for SSA to conduct the SSI Outreach Demonstration Programs, which helped SSA to learn a great deal about how third parties could help the agency to find and serve aged and disabled individuals. SSI Outreach tested a number of approaches. Homeless individuals were one of the target populations within those projects. SSA learned a great deal from SSI Outreach about how to more effectively serve individuals who were homeless and in underserved populations. Some of the findings were that third-party entities could successfully:

• Assist individuals with completing applications for benefits;

• Track claimants and provide assistance in response to SSA requests for additional information;

• Conduct presumptive disability screenings;

• Refer individuals for other needed services.

Lessons Learned. SSA is aware that our complex disability program is difficult for many individuals with severe disabilities to understand, and that special efforts must be made to provide application assistance. Because of variations in local needs, SSA has not developed a national outreach program; however, we have examined our past and current outreach efforts, and have determined methods that work well and have the potential to prove to be cost-effective strategies for improving our services to individuals who are experiencing homelessness. With this set of cooperative agreements, SSA intends to take the best ideas from current agency outreach efforts (i.e., “best practices”), as well as the most effective approaches from the SSI Outreach projects. The features of effective efforts that we intend to incorporate in these projects include:

• SSA and DDS collaboration with service providers that have expertise in identifying, engaging, and assessing applicants who are homeless;

• Identifying contacts within SSA and the grantee organizations to facilitate communication and problem resolution;

• Presumptive disability benefits for claimants with a high probability of being found disabled under Social Security's rules;

• Grantee assistance to SSA in providing direct help to claimants in completing the application process, maintaining contact with SSA while the decision is pending, obtaining medical evidence, and providing post-eligibility assistance; and

• SSA training and technical assistance to grantees.

D. Project Goals and Objectives

The goal of these cooperative agreements will be to demonstrate efficient, replicable, and sustainable approaches for identifying individuals who are potentially eligible for benefits under any Social Security disability program, and providing direct assistance to these individuals in the benefit application process. By efficient, we mean those methods that find and assist potentially eligible individuals, minimizing the burden of application for them, while conserving both public and private resources. By replicable, we mean approaches and methods which could be used in other settings with similar results. By sustainable, we mean methods that can continue after the cooperative agreement funding from SSA ends.

The core objectives for the projects is to identify homeless individuals who are potentially eligible for benefits, and to provide assistance to project participants that results in faster claim decisions and higher initial allowance (benefit approval) rates for those who are eligible for disability benefits under SSA's program rules. SSA will provide training to project staff in organizations which receive the cooperative agreement funding (grantees). The training will be designed to increase the knowledge that project staff have about the disability application process. The focus of the training will be on the disability determination process, specifically, on the role that the grantee can play in helping project participants to complete application paperwork, producing or locating valuable medical evidence, establishing claimant identity, verifying income and resources, providing information about the functional impact of disabling impairments, and assisting SSA in maintaining contact with claimants throughout the application process and after SSA makes a decision.

SSA is also interested in the degree to which the assistance that grantees provide to claimants results in improvements in quality of life, particularly in the area of achieving full community integration, including attaining stable housing, recovery, and employment.

E. Project Features

The HOPE projects will help SSA to demonstrate the feasibility of special approaches and services that use skilled medical and social service providers to identify, engage, and assist homeless individuals with disabling conditions. While SSA expects grantees to find homeless individuals through outreach, the focus of the cooperative agreement projects is to improve the knowledge and capacity of existing outreach providers to assist these individuals in the disability application process.

1. Use of Cooperative Agreement Funds

Grantees must use cooperative agreement funds to address the goals and objectives described in Section I.D. To that end, SSA is interested in applications from social and medical service providers, such as community mental health centers, hospitals, Health Care for the Homeless clinics, faith-based organizations, and other community-based organizations that serve the target population.

SSA favors applicants that consider the full range of needs of individuals they serve, and that provide a continuum of care and case management. Since these projects are part of the broad Federal strategy to end chronic homelessness, SSA is interested in funding projects that provide assistance to project enrollees, not only with the disability benefit application process, but with obtaining other services that result in stabilization, recovery, and eventual entry or return to a productive lifestyle and full community integration. This includes becoming representative payees when a beneficiary is not capable of managing his/her benefits, and no other preferred payee is available.

Grantees must provide certain core functions, and may choose to perform other optional functions, as described in sections A and B:

A. Core Grant Activities—grantees who receive funds under this announcement must conduct outreach and provide assistance with the disability benefit application process. Specifically, grantees must:

• Conduct outreach activities to locate homeless individuals with disabling impairments. Applicants must have existing capacity to conduct outreach activities, and are not required to increase the actual amount of outreach activities, although they are expected to serve at least 50 individuals annually within their projects. Applicants are encouraged to use approaches that make use of existing resources, including staff, and to use cooperative agreement funds to improve their organizational capacity to provide assistance to homeless individuals. In other words, applicants are encouraged to use the cooperative agreement funds to develop sustainable approaches that can continue after cooperative agreement funds are no longer available.

• Provide direct assistance to homeless individuals in the application process. Activities must include helping these individuals to:

○ Schedule an appointment to apply for benefits;

○ understand the need to sign application and other forms needed to process the application;

○ complete application paperwork; and

○ communicate effectively with SSA staff when filing a claim.

• Assist claimants with finding necessary documentation, including proof of identity, financial records, and medical records. Many homeless individuals lose identity documents. Grantees will assist homeless individuals in establishing identity, and replacing lost immigration paperwork. Grantees will also help homeless claimants to document past medical treatment, and assist the DDS in obtaining evidence of past treatment. Finally, grantees will help claimants to find relevant financial records, including documenting and reporting any income and resources obtained throughout the disability application and appeal process.

• Provide existing medical evidence in the grantee's medical records.

• Perform any necessary medical examinations, arrange for such examinations, and/or establish a collaborative relationship with an organization that will perform any examinations needed to make a disability determination. Cooperative agreement funds may be used to pay for examinations conducted by psychologists, psychiatrists, general practitioners, or specialist physicians.

• Assist claimants with attending consultative examinations, when necessary. In general, evidence from treating sources that have an on-going relationship with claimants is preferred, and the DDS attempts to get such information before scheduling a “consultative examination” (CE) with a medical provider, who examines a claimant, and provides a report to the DDS. As noted above, the grantee may use cooperative agreement funding to arrange for an examination with a qualified provider; however, in some areas, grantees may have difficulty establishing such relationships with medical providers. In such cases, the grantee will notify the DDS immediately, so that the DDS examiner will know that a CE will be necessary. The DDS will pay for such examinations, when necessary, and the grantee will enable the claimant to attend the examination.

• Provide information regarding the effect that a claimant's impairment has on the ability to perform work. SSA needs information about how impairments limit a claimant's functioning, including restrictions in exertional activities, such as bending and lifting, as well as non-exertional factors, such as the ability to concentrate and/or persist in the performance of tasks. Grantees will provide information about claimants’ ability to complete activities of daily living and instrumental activities of daily living, with and without assistance.

• Maintain contact with the claimant throughout the determination process, and help the claimant to respond to requests for further information. A key responsibility of grantees will be to help SSA maintain contact with claimants. This may include serving as an authorized “representative” for a claimant, but can also include informal steps, such as establishing a contact within the grantee agency for claimants served by the grantee.

• Assist claimants with filing reconsiderations and appeals. Claimants have appeal rights when they receive denials or partially favorable decisions. Appeal rights are described in SSA's publication, the The Appeals Process (SSA Publication No. 05-10041, April 1999) which can be found at http://www.ssa.gov/pubs/10041.html. If a claimant disagrees with SSA's decision on their initial claim, the grantee will assist the claimant in filing a timely reconsideration. If the claimant disagrees with a reconsideration decision, the grantee will assist the claimant in filing a timely request for a hearing.

• Collaborate with and make referrals to other organizations to ensure favorable outcomes for claimants and beneficiaries, including working with agencies that provide:

○ Mental health services;

○ supportive housing;

○ community-based health care providers;

○ employment rehabilitation services;

○ job placement;

○ benefit planning assistance and outreach;

○ veteran's health benefits;

○ substance abuse treatment;

○ translation and/or interpreter services; and

○ services to parolees and those in work-release programs

• Assist claimants with participating in SSA electronic application and case processing initiatives. SSA is moving in the direction of establishing an electronic disability claims process, known as “eDib.” While not every applicant will be capable of or required to file claims via SSA's electronic claims process, SSA will be establishing an electronic claim folder for all claimants. SSA plans to implement this new way of doing business in stages, by rolling out the process gradually in some locations. When possible, grantees should assist claimants to complete the Disability Report form (SSA i3368 or SSA i3820) on the internet, and claimants for disability insurance to complete the application form on-line. Applicants should note that they may use cooperative agreement funds, as noted in Section I, Section E.1.B, to improve their capacity to operate in an electronic environment.

• Attend training designed to improve the quality of core activities. Required training is described in Section I.E.2.

• Plan for project continuation when cooperative agreement funding ends. SSA is interested in funding projects which focus on developing their organizational capacity to serve disability benefit claimants, and which make use of partnerships with other community service providers, and which leverage existing funding and resources to achieve outcomes.

B. Optional Activities—Cooperative agreement funds may also be used to perform other functions, particularly those that will help homeless individuals with disabling impairments to attain stable supportive housing, recover, attain employment, and use benefits to meet basic needs. Funds may be used to:

• Develop and improve representative payee services. Grantees may assume the responsibilities of a representative payee (payee), or may recruit and train volunteer payees. Examples of how funding may be used include setting up an accounting system; working with a local bank to establish a group and/or individual accounts; and training grantee staff, family members of clients, or community volunteers to provide payee services. Applicants may wish to refer to information for organizational payees available at http://www.ssa.gov/payee/organ.htm in order to get ideas about how to use funds to improve representative payment.

• Screen claimants for “presumptive disability (PD).” Under SSA program rules, an SSI claimant may receive payments, for up to six months, based on a presumption of disability (PD). SSA or the DDS must have enough evidence that the claimant will meet SSA's strict definition of disability in order to make a PD determination. Federal regulations require SSA to make a final medical determination within six months following application. Applicants that propose to conduct PD screenings for SSA must include a description of the activities they will undertake to ensure the quality of the screening mechanism, including a description of the clinical qualifications of the screener. SSA is interested in achieving a low “reversal rate” for PD decisions. A PD reversal occurs when an individual is allowed PD payments, and then is formally denied SSI disability benefits after final medical development. Within these projects, SSA will actually make the PD determination; a grantee can do no more than make a PD recommendation. SSA will provide training in current agency PD rules to all grantees. Prior to implementing any additional presumptive disability procedures in cooperative agreement projects, SSA will establish guidelines to protect the integrity of the PD process. Grantees that choose to exercise the option to include a PD element in their project will work with SSA program staff, and local field office and DDS representatives, after award, to establish and implement any project-specific procedures that may be deemed necessary by SSA.

• Establish and implement pre-release procedures. Individuals who leave institutions, particularly state mental hospitals, prison, and institutions for the care of persons with mental retardation, are at high risk of becoming homeless. Projects may use cooperative agreement funds to establish and conduct discharge planning activities that include making arrangements to establish eligibility prior to discharge. Note that such arrangements are possible under current SSA rules, but that program rules do not allow for benefits to be paid prior to release or discharge. Individuals who had received SSI benefits that were suspended require a redetermination of eligibility prior to release or discharge so that SSA can determine current living arrangements and any other changes that might affect eligibility. If an applicant chooses to use project funds to conduct such activities, they may serve those who have never received disability benefits, as well as those whose benefits are in suspense, and those whose benefits have terminated.

• Improve electronic services and information sharing. As noted in the bulleted items under “Core Activities” (Section I.E.1.A), SSA is moving to an electronic disability application and case processing environment. All grantees will be required to make attempts to cooperate with the roll-out of this initiative, to the extent possible. But SSA encourages applicants to consider ways to work more effectively with SSA as the agency develops its electronic case processing initiatives. Grantees may use cooperative agreement funds to strengthen their ability to operate in this new environment, including purchasing scanners, fax machines, and laptop computers to be used by outreach workers in the field to complete forms with applicants. Grantees may also use cooperative agreement funding to establish internet service that will allow for the transfer of medical records to a secure Web site, when this option becomes available.

• Develop a work entry/return-to-work program. Disability benefits can provide income support that can help an individual obtain housing, and begin a recovery process. But many individuals with disabilities want the opportunity to work, and improve their quality of life. Grantees may choose to focus on helping homeless individuals to make a transition to independence, by focusing on rehabilitative, vocational, and other activities that help them work. The Ticket to Work and Work Incentives Improvement Act of 1999 directed SSA to establish the Ticket Program. Under the Ticket program, beneficiaries may receive employment services, vocational services, or other services from Employment Networks (ENs). ENs are public or private providers, or consortiums of providers, of such services. Grantees may become ENs, either on their own, or in cooperation with other organizations. For more information about the Ticket to Work program, and ENs, visit: http://www.yourtickettowork.com/. This Web site is maintained by Maximus, Inc., a private company that is helping SSA to manage the Ticket Program.

2. Training and Technical Assistance

Grantees must identify project staff to participate in training provided by SSA, DDS, and/or SSA training contractors. The training is designed to improve the ability of grantee organizations to assist claimants. Grantees will pay for all costs associated with attending training sessions, and may use cooperative agreement funds to pay these costs.

SSA will develop a standardized training curriculum, which will be delivered initially in group training sessions. SSA and DDS staff will deliver the training, which will be coordinated and supported through contractor assistance. While grantees are encouraged to send all project staff to training, they must identify one person who will attend all SSA training, and who will be responsible for training other grantee agency personnel. SSA believes this is necessary, because:

• Some grantees may find it impossible for all staff involved in the project to attend training, without interrupting critically important services;

• some grantee organizations may organize services in such a way that it is impractical to provide in-depth training to all staff who may assist project enrollees; and

• grantee organizations may experience turnover during project operation.

For the purposes of establishing a training travel budget, grantees should assume that all employees who attend the training will be required to travel for two days to the city in which their SSA Regional Office is located. Applicants can determine which SSA region they are in by visiting http://www.ssa.gov/otherssasites/, and scrolling down to the menu for Regional Offices, or by calling SSA's toll-free number at (800)-772-1213.

Grantees that have physicians on staff are strongly encouraged to require those physicians to review materials prepared by SSA's Office of Provider Relations, specifically, a publication and video entitled, “Understanding Social Security Disability.” The American Academy of Family Physicians has certified this material for continuing medical education credits (CME).

SSA, through its training and technical assistance contractor, will provide on-going technical assistance to grantees. When preparing a project plan and budget, applicants should assume that some staff time will be required to receive technical assistance, but no travel will be required.

3. Conferences

In addition to the group training sessions, grantees will be required to attend one two-day start-up conference in the Washington, DC, area, and to attend a two-day conference in the same location at the end of each project year. Minimally, the project director is expected to attend both conferences. Other project staff may attend, as well. Project budgets should assume that conference participants will need to stay in Washington for at least three nights, and that they will not receive any special room rates.

4. Meetings

The project director of each grant project will participate in monthly conference calls during the first six months of the project with a SSA Federal project officer (FPO) from the Office of Program Development and Research. Representatives from SSA regional offices, FOs, and other headquarters components, as well as DDS representatives, will participate as necessary.

Grantees will be expected to meet with representatives from SSA, including the local SSA FO and the state DDS after award notification, to discuss project start-up and procedures. SSA FPOs will participate in person or by conference calls in initial meetings. In general, project procedures will not require any deviation from existing operating procedures in FOs, or DDSs, although FOs and DDSs may work with grantees to create special procedures, particularly those that might lead to reductions in case processing time.

Grantees and SSA FOs and/or DDSs may establish a memorandum of understanding, or other written document designed to formalize agreements regarding case processing. If this type of activity occurs, grantees will consult with the SSA FPO, as well as the field office or DDS. Applicants are prohibited from seeking letters of intent or agreement from local FOs, other SSA offices, or from state DDS offices prior to award notification.

For the purposes of establishing a budget for meetings, applicants should assume monthly visits to the SSA field office(s) that serve project participants, as well as at least two meetings annually at the state DDS office.

Section II. Award Information

A. Statutory Authority and Catalog of Federal Domestic Assistance Number

These projects derive their authority from section 1110 of the Social Security Act (the Act). The regulatory requirements that govern the administration of SSA awards are in the Code of Federal Regulations, Title 20, Parts 435 and 437. Applicants are urged to review the requirements in the applicable regulations. This program will be listed in the Catalog of Federal Domestic Assistance under Program No. 96.007, Social Security Administration—Research and Demonstration.

B. Type of Awards

Funding made available under this announcement will be in the form of cooperative agreements between the government and the awardee. Cooperative agreements are a legal instrument reflecting a relationship between the U.S. Government and a recipient when the principal purpose is to transfer a thing of value to the recipient and substantial involvement is expected between the Agency and the recipient when carrying out the activity contemplated by the agreement. Involvement will include collaboration or participation by SSA in the management of the activity as determined at the time of the award. For example, SSA will be involved in decisions involving data collection and evaluation, grantee training, deployment of resources, release of public information materials, quality assurance, and coordination of activities with other offices.

SSA has chosen to use cooperative agreements for funding projects to serve homeless individuals in order to assure accountability for funding, and to maintain the ability to successfully monitor and evaluate projects.

C. Number, Size, and Duration of Projects

Congress appropriated $8 million in FY 2003 for SSA to conduct this set of outreach projects. SSA intends to fund projects over a period of three years, with initial awards being made by January 2004. SSA intends to enter into cooperative agreements for 4 years, subject to the availability of annual appropriations by Congress, and will fund project activities in years 1-3, with only data reporting activity in year four. No additional funds will be awarded in year four, so applicants must budget for year four activities in year 3, and conduct the data collection in year 4. SSA anticipates that projects will require a higher level of funding in the first year following award, in order to fund start-up activities. SSA plans to gradually reduce funding to projects over the 4 year period, so that additional projects may be funded.

Project budgets should reflect a reduction in dependence on cooperative agreement funding over the three year funding period, with a 25% reduction in the total budget in year two, and a 50% reduction in year three. Renewals of project funding will be determined annually, dependent on the availability of funding, and the determination that the award is in the best interest of the Government. SSA also expects projects to report follow-up data in the year following the conclusion of the project.

SSA may suspend or terminate any cooperative agreement, in whole or in part, at any time before the date of expiration, whenever it determines that the awardee has materially failed to comply with the terms and conditions of the cooperative agreement. SSA will promptly notify the awardee in writing of the determination and the reasons for suspension or termination, together with the effective date.

SSA has reserved a portion of the $8 million appropriation to fund training and technical assistance to grantees and to evaluate the projects. Approximately $6.5 million will be available for awards under this announcement. SSA plans to fund approximately 30 projects, with awards of up to $200,000 annually. The exact number of awards will be determined by the size of awards.

D. Awardee Share of the Project Costs

Awardees of SSA cooperative agreements are required to contribute a non-Federal match of at least 5 percent toward the cost of each project. The cost of the project is the sum of the Federal share (up to 95 percent) and the non-Federal share (at least 5 percent). For example, an entity that is awarded a cooperative agreement of $200,000 would need a non-Federal share of at least $10,526. The non-Federal share may be cash or in-kind (property or services) contributions.

Section III. The Application Process

A. Eligible Applicants

Public and private organizations, including nonprofit, profit-making, and faith-based organizations, may apply for cooperative agreement funding made available under this announcement. Organizations that are awarded funding must:

• Have existing expertise and capacity for outreach to homeless and other underserved groups;

• be able to provide culturally competent services that are fully accessible to the target population, including individuals that require accommodations;

• be a direct provider of health care services or provide referrals and assistance to clients in obtaining health care services.

Cooperative agreements may not be awarded to:

• Any individual;

• Social Security Administration FOs;

• State DDS offices; or

• Any organization described in section 501(c) (4) of the Internal Revenue Code of 1968 that engages in lobbying (in accordance with section 18 of the Lobbying Disclosure Act of 1995, 2 U.S.C. 1611).

All applications developed jointly by more than one agency or organization must identify only one organization as the lead organization and official applicant. The other participating agencies and organizations can be included as co-applicants, subgrantees or subcontractors.

All applicants for Federal grants and cooperative agreements are required to provide a Dun and Bradstreet (D&B) Data Universal Number System (DUNS) number on or after October 1, 2003. The DUNS number will be required whether an applicant is submitting a paper application or using the government-wide electronic portal (Grants.gov). Organizations should verify that they have a DUNS number or take the steps needed to obtain one as soon as possible. Organizations can receive a DUNS number at no cost by calling the dedicated toll-free DUNS number request line at 1-866-705-5711.

B. Targeted Population

Congress intended funding made available by SSA under this announcement be used to provide outreach to homeless and “other under-served” populations. President George W. Bush also established a goal to end chronic homelessness, and has directed Federal agencies to cooperate to achieve that goal. Therefore, this set of cooperative agreements will target homeless adults and children who have physical and/or mental impairments that might qualify them as “disabled” under Social Security's rules. Under-served homeless individuals include, but are not limited to, persons:

• With serious mental illness;

• with HIV infection;

• with limited English proficiency;

• with cognitive impairments; and

• who are disabled veterans.

Although SSA intends for most projects funded under this announcement to serve individuals who need assistance with applications for SSI benefits, projects may assist disabled or elderly homeless persons who are insured for disability, retirement and/or survivors benefits.

Cooperative agreement awardees must make concerted and assertive efforts to provide appropriate services for project participants with limited English proficiency, those who need accommodations related to a disability, and those who have needs for culturally sensitive services. In particular, applicants should show how they intend to assure that participants from diverse populations are served by the project.

Applicants must specify by district, county, municipality, or state the geographic area to be covered (if more than one site is proposed, the geographic area for each must be specified).

C. Costs

Federal cooperative agreement funds may be used for allowable costs incurred by awardees in conducting required and optional project activities, as described in Section I, Section E.1. These costs could include administrative and overall project management costs, within the limitations established in this announcement.

Federal cooperative agreement funds are not intended to cover costs that are reimbursable under an existing public or private program, such as social services, rehabilitation services, or education. No Social Security or SSI beneficiary can be charged for any service delivered under a HOPE cooperative agreement. Cooperative agreement funds may not be used to create new benefits or extensions of existing benefits.

Section IV. Program Requirements

A. General Requirements

Each application must include a brief project abstract that does not exceed one page in length before the narrative. The application narrative must not exceed 30 pages. Applicants must identify targeted age group(s) and location of the targeted service area(s) (e.g., district, municipality or county, and/or independent city). The narrative must include an implementation plan that shows how the applicant will:

1. Finalize the management information (MI) system data collection elements and procedures with SSA and the evaluation contractor, described in Section IV.B, within 90 days after award;

2. Report data elements, as described in Section IV.B and C.

3. Develop and submit quarterly reports that contain progress and status toward achieving goals and objectives, and MI data updates to the Office of Acquisition and Grants (OAG);

4. Develop and submit quarterly financial reports to SSA, OAG;

5. Meet with SSA Project Staff and other grantees for an initial 2 day meeting/conference in Washington, DC, within the first 90 days following award;

6. Begin to enroll participants within 120 days after award;

7. Provide a description of any planned changes to the project design for approval by SSA prior to implementation;

8. Cooperate with SSA and any contractor in connection with these projects in scheduling and conducting site visits;

9. Implement an ongoing management and quality assurance process that uses MI data;

10. Conduct activities designed to improve organizational capacity, gradually reduce reliance on cooperative agreement funds, and sustain the project activities after cooperative agreement funding is no longer available.

11. Attend an annual SSA conference in Washington, DC, participate in panel and small group discussions, and make project presentations; and

12. Coordinate project activities with SSA's FO and the DDS in the grantee's state. (Applicants should not request letters of intent or commitment from SSA FOs. SSA will secure FO cooperation.)

B. Evaluation

The projects will work with an evaluation contractor who will conduct an independent evaluation of outcomes, impacts, and benefits of the HOPE projects. Grantees must make data collected in the projects available to the evaluation contractor, as specified by the evaluation contractor under the direction of SSA.

The purpose of the evaluation is to assess the extent to which the projects are successful in achieving the goals, objectives, and outcomes of the projects.

The evaluation results will be used to assist SSA in identifying possible changes in policies or procedures that could enhance service to the public or otherwise improve administration of the program. The evaluation reports will be disseminated to others involved in providing community-based services to individuals who are homeless or members of under-served populations. To the extent possible, project data will be used to conduct cost-benefit analyses, which will help SSA to answer not only the question of whether the activities conducted in the project affect outcomes for program claimants, but how much they affect outcomes, and at what cost.

1. Enrollment Guidelines

Each grantee is required to enroll at least 50 individuals in their project. SSA encourages grantees that serve large numbers of homeless individuals attempt to achieve higher enrollment numbers. In order to be considered a project participant, and to receive services as a participant of any HOPE project, an individual must be enrolled by the grantee, using the reporting mechanism described in Section II.C.1.

Grantees may enroll individuals who have not yet filed an initial application, as well as those whose benefits are in suspense or terminated. Grantees may not enroll individuals who have pending applications with SSA, nor those who have already filed for a reconsideration or appeal of a denial or partially favorable decision. The grantee may, of course, continue to serve such individuals, but for the purposes of enrollment and data collection, grantees must follow these guidelines. Individuals who are served by the grantee that are not enrolled are not eligible to receive any special case processing consideration that is accorded enrollees. Allowing for enrollment of those whose benefits are suspended or terminated will allow projects that focus primarily on pre-release activities to meet enrollment targets.

Grantees may enroll individuals that they have already had contact with prior to award of the cooperative agreement, provided that the individual has not already filed a claim. The grantee may provide services to individuals who refuse to sign the consent forms described in Section II.C.2, but they may not enroll or report data to SSA on individuals who refuse to sign forms indicating that they authorize release of personal information.

C. Data Collection

1. Data Elements

SSA's evaluation contractor will develop and maintain a secure interactive Web site to collect evaluation information from the grantees. Grantees will log-on to the Web site and input information on each project enrollee monthly, which will then be readily accessible to the contractor and to SSA. “Project enrollees” are defined in Section II.B.1.

All data elements are to be reported using precise definitions, which will be developed by the evaluation contractor and approved by SSA. Adherence to such definitions is crucial to the comparability of the data across project sites. Grantees must report these elements on the secure Web site established by the contractor.

Specific instructions will be available at the time that the projects begin enrollment. The data elements below will be entered on the secure Web site monthly, except as noted:

• The project enrollee's name, date of birth, and social security number (report only at time of enrollment);

• Time (in hours) spent developing the medical evidence;

• Time (in hours) spent providing other forms of application assistance;

• The date of all grantee contacts with SSA during the application process, identification of an issue category, and an indication of whether the issue was resolved, or if further follow-up will be necessary;

• The date the project enrollee received notice of the determination;

• Whether a recommendation for presumptive disability (PD) benefits was made by the grantee;

• If so, whether SSA adopted the PD recommendation;

• A description of the living situation of the project enrollee on the date that the individual files a claim for benefits, to include:

• A description of the living situation of the project enrollee on the date that the individual files a claim for benefits, to include:

• Dwelling type:

• Living on the street (in doorways, on sidewalks, etc.);

• Other outdoor location;

• Other place not meant for human habitation (e.g., abandoned buildings);

• Living with friends or relatives;

• Foster care;

• Halfway house or group home;

• Correctional facility;

• Institution;

• Emergency or transitional shelters;

• Housing units containing people living doubled up with family members or friends;

• Other

• Unknown

• A description of the living situation of the project enrollee, one year following the date that the individual files a claim for benefits, and eighteen months following application, to include:

• Dwelling type:

• Living on the street (in doorways, on sidewalks, etc.);

• Other outdoor location;

• Other place not meant for human habitation (e.g., abandoned buildings);

• Living with friends or relatives;

• Foster care;

• Halfway house or group home;

• Correctional facility;

• Institution;

• Emergency or transitional shelters;

• Housing units containing people living doubled up with family members or friends;

• Other

• Unknown

• Representative Payee information

• Did the grantee recommend a payee (report when recommendation is made, and any changes)

• When benefits start, report if the grantee is the payee, or if the grantee found another payee.

2. Privacy

All personal information collected by SSA is protected by the Privacy Act of 1974. All projects must adhere to SSA's Privacy and Confidentiality Regulations (20 CFR 401) for maintaining records of individuals, as well as provide specific safeguards surrounding beneficiary information sharing and storage of paper/computer records/data. All applications must describe proposed practices for addressing clients’ privacy and obtaining informed consent for any disclosure. The plan described in the applicant's project description must address the following elements:

• The development and use of a consent form that will allow the grantee to disclose clients” personal information to SSA. SSA will provide a suggested format for the consent form, which may either be adopted by the grantee, or tailored to include any state or agency-level requirements. Applicants selected under this announcement must provide SSA with a copy of the consent form. The Federal Project Officer must approve this consent form prior to the enrollment of any project participants.

• The use of Form HIPAA SSA-827, Authorization to Disclose Information to the Social Security Administration. This form is required as written authorization from a claimant for SSA to obtain information required for processing an application for disability benefits.

• The use of Form SSA-3288, Social Security Administration's Consent for Release of Information. This form will allow SSA to give information concerning the client to the grantee and to the evaluation contractor.

• If necessary, the grantee will attain the approval of their Institutional Review Board (IRB), and furnish SSA with a copy of the approval document.

Copies of Forms HIPAA SSA-827 and SSA-3288 can be obtained on-line through the SSA Web site: http://www.socialsecurity.gov/.

3. Training Data

Grantee staff that attend training will complete a pre-training test of knowledge regarding the disability program, as well as a post-training test. They will also complete a training evaluation form at the time of training. The pre and post training tests will provide measures of the impact of training on knowledge about the disability application and decision process. The participant evaluation will provide a measure of the perceived value and quality to the training.

D. Reporting

Grantees will be required to submit quarterly reports to SSA, OAG, within 30 days following the end of each quarter (using the initial award date as the project start date). These reports will assist SSA in providing proper oversight and technical assistance to grantees.

Quarterly Report Format

• Description of the project (first quarter report only);

• Actions taken during the quarter;

• Planned activities for upcoming quarter(s);

• Number of project participants enrolled, to date, and at the close of the report period;

• Number of individuals who refused to enroll;

• Any problems or proposed changes in the project; and

• Additional summary information.

E. Monitoring

SSA FPOs will be responsible for ensuring the effective implementation of each cooperative agreement. SSA project personnel (SSA FPO and/or other staff) expect to visit each project at least once in each year of the cooperative agreement. In addition, Regional or field office personnel may accompany SSA FPOs on site visits. The design of this project anticipates frequent interaction between the local FO, the state DDS office, and the grantee. SSA project staff will hold conference calls on a national, regional, and/or local basis at least once monthly during start up of the projects (six months following award), and at least quarterly during the rest of the project period. The purpose of these calls will be to coordinate activities across the project sites, resolve problems, and provide oversight, support, and technical assistance to all parties.

F. Technical Assistance

SSA will provide technical assistance to the grantees and will monitor and evaluate the progress of the projects. Technical assistance will be provided with the support and assistance of a contractor. Awardees will be informed of the procedures for accessing technical assistance within 60 days following award. Grantees will be notified by email about any changes in or additions to technical assistance procedures.

Section V. Application Review Process and Evaluation Criteria

A. Application Process

The cooperative agreement application process consists of a one-stage, full application. Independent reviewers will competitively review and score the application, using the evaluation criteria specified in this announcement (see Section V).

B. Application Requirements

Applications will be initially screened for responsiveness to this announcement. If judged irrelevant, the application will be returned. Also, applications that do not meet the applicant eligibility criteria in Section III.A above will not be accepted.

1. Number of Copies: The applicant must submit one original signed and dated application and a minimum of two copies. The submission of seven additional copies is optional and will be appreciated, but will not affect the evaluation or scoring of the application.

2. Length: A project abstract of not more than one page must precede the narrative of each application. The program narrative portion of the application (Section III of the SSA-96-BK) may not exceed 30 double-spaced typed pages (or 15 single-spaced pages) on one side of the paper only, using standard (8½″ x 11″) size paper, and 12-point font. The attachments to support the program narrative count towards the 30-page limit. Resumes, job descriptions and letters of cooperation/collaboration do not count in the 30-page limit.

Section VI.B contains a detailed checklist for the application format.

C. Review and Evaluation

All applications that meet the deadline for application submission November 25, 2003, will be screened to determine completeness and conformity to the requirements of this announcement. Complete and conforming applications will then be evaluated. The results of this review and evaluation will assist the Commissioner in making award decisions.

Although the results of this review are a primary factor considered in making award decisions, the review score is not the only factor used. In selecting eligible applicants to be funded, consideration also may be given to achieving an equitable distribution of assistance among geographic regions of the country and to diverse populations.

Applications that are complete and conform to the requirements of this announcement will be reviewed competitively against the evaluation criteria specified in Section V.B. of this announcement. Applicants must complete the Form SSA-96-BK. See Section VI for instructions on obtaining Form SSA-96-BK.

Applications that pass the screening process will be independently reviewed by at least three individuals (primarily qualified persons from outside of SSA), who will evaluate and score the applications based on the evaluation criteria specified in Section V.B.

D. Application Approval

Cooperative agreement awards will be made pursuant to the availability of funds and at the discretion of SSA. The official award document is the “Notice of Cooperative Agreement Award,” which will provide the amount and purpose of the award, the duration of the agreement, the total project period for which support is contemplated, applicable reporting requirements, the amount of financial participation required from the applicant, and any special terms and conditions of the cooperative agreement.

E. Evaluation Criteria

There are three categories of criteria used to score applications: Capability; relevance/adequacy of project research design; and resources and management. The total points possible for an application is 100, and sections are weighted. The score for each application is the sum of its parts. Although the results from the independent panel reviews are the primary factor used in making funding decisions, they are not the sole basis for making awards. The Commissioner will consider other factors as well when making funding decisions. For instance, the need to assure a proper geographic distribution of projects, or the need to target geographic regions with high rates of chronic homelessness may influence award decisions.

The following are the evaluation criteria that SSA will use in reviewing all applications (relative weights are shown in parentheses). The application narrative should include the following sections in this order.

1. Capability (30 points total)

These criteria will be used to assess the applicant's capability to develop and manage a project. SSA will consider the following:

• Evidence of successful previous experience related to services to individuals who experience chronic homelessness. (5 points)

• Evidence that the applicant will be able to provide or assist SSA in finding medical evidence to allow SSA to evaluate disability claims of project participants. (10 points)

• Documentation of experience of the Project Director and key staff. (5 points)

• Description of the qualifications, including relevant training and experience, of key project personnel, and the qualifications, including relevant training and experience, of project consultants or subcontractors, if built into project design. (5 points)

• In determining the quality of project personnel, the extent to which the applicant encourages applications for employment from persons who are members of groups that have traditionally been underrepresented based on race, color, national origin, age, or disability. (5 points)

2. Project Design (30 points total)

The adequacy of project design will be judged by:

• A description of the project, including:

• How the project will be managed;

• The target population;

• Specific methods to be used, and

• A description of problems that may arise and specific measures that will be taken to mitigate them (e.g., how dropouts and inadequate numbers of participants will be handled). (10 points)

• The extent to which the project design reflects careful consideration of the potential for achieving successful outcomes and for project replication. This includes evidence of:

• An approach to potential SSDI/SSI claimants that can reasonably be expected to be successful, given the characteristics and needs of the target population;

• Measurable methods for recruiting and serving the target population;

• Service delivery to populations with special cultural or language requirements;

• Consideration of the desired outcomes identified by SSA; and

• Accessibility of facilities and service delivery methods that eliminate or reduce barriers to participation by individuals with disabilities. (10 points)

• The extent to which goals, objectives, and outcomes to be achieved by the proposed project are clearly specified and measurable as indicated by a description of:

• Project goals and objectives;

• Outcome measures;

• Time frames for accomplishing project milestones; and

• The relationship of proposed activities to the stated project goals. (5 points)

• A description of how the applicant will organize to effectively work with SSA in the new electronic disability application environment. This may include, but is not limited to:

• Completing on-line forms;

• Using technology in outreach efforts; and

• Sending electronic medical evidence (files created in an electronic format compatible with SSA systems, or scanned files). (5 points)

3. Resources and Management (40 points total)

Resources and management will be judged by:

• A description of how the applicant will ensure that the perspectives of homeless individuals and persons with disabilities influence the operation of the project (e.g. representation on a project or organizational advisory board) (5 points)

• Evidence that the applicant has a working knowledge of Federal, State, and local programs that serve homeless or other under-served individuals (5 points)

• Evidence of facilities, equipment, supplies, and other resources, from the applicant organization that are adequate to achieve project goals (5 points)

• Evidence that the applicant works cooperatively with other community-based service providers, as well as local and state funders/regulators (5 points)

• Evidence that the applicant directly provides, or assists clients through referral and advocacy, to obtain a wide variety of services that lead to stabilization, recovery, and full independence, including, but not limited to:

• Primary health care services;

• Substance abuse and mental health treatment;

• Referrals for housing and supports to maintain housing;

• Employment and rehabilitation services;

• Job placement;

• Benefit planning assistance and outreach;

• Translation and/or interpreter services; and

• Services to parolees and those in work-release programs, when appropriate (10 points)

• The extent to which the budget is adequate to support the proposed project (5 points)

• The extent to which the applicant has included plans for sustaining project activities after cooperative agreement funding ends (5 points).

Section VI. Instructions for Obtaining and Submitting an Application

A. Availability of Forms

The Internet is the primary means recommended for obtaining an application kit under this program announcement. An application kit containing all of the prescribed forms and instructions needed to apply for a cooperative agreement under this announcement may be obtained at the following Internet address: http://www.socialsecurity.gov/oag/grants.

However, in the rare instances when an organization may not have access to the Internet, an application kit may be obtained by writing to: Grants Management Team, Office of Operations Contracts and Grants, OAG, Social Security Administration, 1-E-4 Gwynn Oak Building, 1710 Gwynn Oak Avenue, Baltimore, Maryland 21207-5279.

Requests submitted by mail should include two return address labels. Also, please provide the name, title and telephone number of the individual to contact; and the organization's name, street address, city, state and ZIP code.

To ensure receipt of the proper kit, please include program announcement number (OPDR-03-02) and the date of this announcement in the request.

B. Checklist for a Complete Application

The checklist below is a guide to ensure that the application package has been properly prepared.

• An original, signed and dated application plus at least two copies are required. Seven additional copies are requested.

• The program narrative portion of the application (Section III of the SSA-96-BK) may not exceed thirty double-spaced pages (or fifteen single-spaced pages) on one side of the paper only, using standard (8½″ x 11″) size paper, and 12-point font. Attachments, that support the program narrative, count towards the 30-page limit. (Resumes and letters of cooperation or intent do not count within the 30 page limit.)

• Attachments/Appendices, when included, should be used only to provide supporting documentation. Please do not include books or videotapes as they are not easily reproduced and are therefore inaccessible to reviewers.

• A complete application, which consists of the following items in this order:

Part I

• (Face page)—Application for Federal Assistance (SF 424, REV 4-88)

• Table of Contents

• Project Abstract (not to exceed one page)

Part II

• Budget Information, Sections A through G (Form SSA-96-BK)

• Budget Justification (in Section B Budget Categories, explain how amounts were computed), including complete subcontract organization budgets;

Part III

• Application Narrative and Appendices

Part IV

• Additional Assurances and Certifications—regarding lobbying and drug-free workplace; and

• Form SSA-3966-PC—acknowledgement of receipt of application (applicant's return address must be inserted on the form).

C. Guidelines for Application Submission

All applications for cooperative agreement projects under this announcement must be submitted on the prescribed forms included in the application kit. The application shall be executed by an individual authorized to act for the applicant organization and to assume for the applicant organization the obligations imposed by the terms and conditions of the cooperative agreement award.

In item 11 of the Face Sheet (SF 424), the applicant must clearly indicate the application submitted is in response to this announcement (SSA-OPDR-03-02). The applicant also is encouraged to select a SHORT descriptive project title.

Applications must be mailed or hand-delivered to: Grants Management Team, DCFAM, Office of Operations Contracts and Grants, OAG, Social Security Administration, Attention: OPDR-03-02, 1-E-4 Gwynn Oak Building, 1710 Gwynn Oak Avenue, Baltimore, MD 21207-5279.

Hand-delivered applications are accepted between the hours of 8 a.m. and 5 p.m., Monday through Friday. An application will be considered as meeting the deadline if it is either:

1. Received on or before the deadline date at the above address; or

2. Mailed through the U.S. Postal Service or sent by commercial carrier on or before the deadline date and received in time to be considered during the competitive review and evaluation process. Packages must be postmarked by November 25, 2003. Applicants are cautioned to request a legibly dated U.S. Postal Service postmark or to obtain a legibly dated receipt from a commercial carrier as evidence of timely mailing. Private-metered postmarks are not acceptable as proof of timely mailing.

Applications that do not meet the above criteria are considered late applications. SSA will not waive or extend the deadline for any application unless the deadline is waived or extended for all applications. SSA will notify each late applicant that its application will not be considered.

Paperwork Reduction Act

This notice contains reporting requirements. However, the information is collected using form SSA-96-BK, Federal Assistance Application, which has the Office of Management and Budget clearance number 0960-0184.

Dated: September 22, 2003.
Jo Anne B. Barnhart,
Commissioner of Social Security.

[FR Doc. 03-24306 Filed 9-25-03; 8:45 am]

BILLING CODE 4191-02-P